Title 3—

The President

Proclamation 8909 of November 29, 2012

World AIDS Day, 2012

By the President of the United States of America

A Proclamation

On World AIDS Day, more than 30 years after the first cases of this tragic illness were reported, we join the global community once more in standing with the millions of people who live with HIV/AIDS worldwide. We also recommit to preventing the spread of this disease, fighting the stigma associated with infection, and ending this pandemic once and for all.

In 2010, my Administration released the National HIV/AIDS Strategy, our Nation's first comprehensive plan to fight the domestic epidemic. The Strategy aims to reduce new infections, increase access to care, reduce health disparities, and achieve a more coordinated national response to HIV/AIDS here in the United States. To meet these goals, we are advancing HIV/AIDS education; connecting stakeholders throughout the public, private, and non-profit sectors; and investing in promising research that can improve clinical outcomes and reduce the risk of transmission. Moving forward, we must continue to focus on populations with the highest HIV disparities—including gay men, and African American and Latino communities—and scale up effective, evidence-based interventions to prevent and treat HIV. We are also implementing the Affordable Care Act, which has expanded access to HIV testing and will ensure that all Americans, including those living with HIV/AIDS, have access to health insurance beginning in 2014.

These actions are bringing us closer to an AIDS-free generation at home and abroad—a goal that, while ambitious, is within sight. Through the President's Emergency Plan for AIDS Relief (PEPFAR), we are on track to meet the HIV prevention and treatment targets I set last year. We are working with partners at home and abroad to reduce new infections in adults, help people with HIV/AIDS live longer, prevent mother-to-child transmission, and support the global effort to eliminate new infections in children by 2015. And thanks to bipartisan action to lift the entry ban on persons living with HIV, we were proud to welcome leaders from around the world to the 19th International AIDS Conference in Washington, D.C.

Creating an AIDS-free generation is a shared responsibility. It requires commitment from partner countries, coupled with support from donors, civil society, people living with HIV, faith-based organizations, the private sector, foundations, and multilateral institutions. We stand at a tipping point in the fight against HIV/AIDS, and working together, we can realize our historic opportunity to bring that fight to an end.

Today, we reflect on the strides we have taken toward overcoming HIV/AIDS, honor those who have made our progress possible, and keep in our thoughts all those who have known the devastating consequences of this illness. The road toward an AIDS-free generation is long—but as we mark this important observance, let us also remember that if we move forward every day with the same passion, persistence, and drive that has brought us this far, we can reach our goal. We can beat this disease. On World AIDS Day, in memory of those no longer with us and in solidarity with all who carry on the fight, let us pledge to make that vision a reality.

NOW, THEREFORE, I, BARACK OBAMA, President of the United States of America, by virtue of the authority vested in me by the Constitution and the laws of the United States do hereby proclaim December 1, 2012, as World AIDS Day. I urge the Governors of the States and the Commonwealth of Puerto Rico, officials of the other territories subject to the jurisdiction of the United States, and the American people to join me in appropriate activities to remember those who have lost their lives to AIDS and to provide support and comfort to those living with this disease.

IN WITNESS WHEREOF, I have hereunto set my hand this twenty-ninth day of November, in the year of our Lord two thousand twelve, and of the Independence of the United States of America the two hundred and thirty-seventh.

[FR Doc. 2012-29466

Filed 12-4-12; 8:45 am]

Billing code 3295-F3